DEPARTMENT OF COMMERCE

National Oceanic and Atmospheric Administration

50 CFR Part 679

[Docket No. 991228352-0012-02; I.D. 012700A]

Fisheries of the Exclusive Economic Zone Off Alaska; Pollock in Statistical Area 610

AGENCY: National Marine Fisheries Service (NMFS), National Oceanic and Atmospheric Administration (NOAA), Commerce.

ACTION: Modification of a closure.

SUMMARY: NMFS is opening directed fishing for pollock by catcher vessels that are non-exempt under the American Fisheries Act (AFA) in Statistical Area 610 and the Shelikof Strait Conservation Area of the Gulf of Alaska (GOA). This action is necessary to allow non-exempt catcher vessels to participate in the pollock fishery in these areas consistent with regulations implementing the AFA.

DATES: Effective 1200 hrs, Alaska local time (A.l.t.), January 27, 2000.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The amount of the interim 2000 GOA AFA catcher vessel sideboard in Statistical Area 610 and the Shelikof Strait Conservation Area was established by the Emergency Interim Rule to Implement Major Provisions of the American Fisheries Act (published January 28, 2000), as 3,409 metric tons (mt) and 2,402 mt respectively in accordance with § 679.20(c)(2)(i).

The Administrator, Alaska Region, NMFS (Regional Administrator), has established a directed fishing allowance of 3,209 mt, and set aside the remaining 200 mt as bycatch to support other anticipated groundfish fisheries for this component of the fishery in Statistical Area 610. He also has established a directed fishing allowance of 2,202 mt, and set aside the remaining 200 mt as bycatch to support other anticipated groundfish fisheries for this component of the fishery in Shelikof Strait Conservation Area. These areas of the GOA were closed to directed fishing for pollock by non-exempt AFA vessels effective on January 21, 2000.

NMFS has determined that as of January 24, 2000, 3,209 mt remain in the directed fishing allowance for Statistical Area 610 and 2,000 mt remain in the directed fishing allowance for the Shelikof Strait Conservation Area. Therefore, NMFS is terminating the previous closure and is opening directed fishing for pollock by catcher vessels that are non-exempt under the AFA in Statistical Area 610 and the Shelikof Strait Conservation Area of the GOA.

Classification

All other closures remain in full force and effect. This action responds to the best available information recently obtained from the fishery. It must be implemented immediately in order to allow participation of catcher vessels that are non-exempt under the AFA. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under E.O. 12866.

Authority: 16 U.S.C. 1801 et seq.

Dated: January 27, 2000.
Gary C. Matlock,
Director, Office of Sustainable Fisheries, National Marine Fisheries Service.

[FR Doc. 00-2164 Filed 1-27-00; 5:01 pm]

BILLING CODE 3510-22-F